DEPARTMENT OF TRANSPORTATION

Federal Highway Administration

Environmental Impact Statement Withdrawal; Washtenaw County, MI

AGENCY: Federal Highway Administration (FHWA), DOT.

ACTION: Notice of intent withdrawal.

SUMMARY: On August 27, 1992, the Federal Highway Administration issued a Notice of Intent to prepare an Environmental Impact Statement (EIS) for the proposed reconstruction of US-12 from the east city limit of Saline to Munger Road in Washtenaw County, Michigan. This was updated on October 15, 2001. The proposed project involved the study of alternatives for the widening and reconstruction of the existing roadway. The Federal Highway Administration is issuing this Notice to withdraw its' original Notice of Intent dated August 27, 1992 and update of October 15, 2001.

SUPPLEMENTARY INFORMATION: Preliminary studies were undertaken which resulted in developing several alternatives to accommodate travel demand in the US-12 corridor. Public meetings were held to gather information and help shape the alternatives. A report was prepared on the Illustrative Alternative Evaluation Results. This report recommended the elimination from further consideration the alternatives that included realignment of the roadway, and carrying forward only those alternatives that utilize significant portions of the existing US-12 right-of-way. It was concluded that it is unlikely for the remaining alternatives to cause significant environmental impacts. As a result, the Federal Highway Administration had determined that an environmental impact statement is no longer needed. In lieu of an EIS, the Federal Highway Administration and the Michigan Department of Transportation are reclassifying the project as a Class III Action requiring the development of an Environmental Assessment. Should it be determined during this process that an EIS is needed for a proposed project, one will be prepared following a new Notice of Intent.

Issued on: July 8, 2002.
James A. Kirschensteiner,
Asst. Division Administrator, Lansing, Michigan.

[FR Doc. 02-18227 Filed 7-18-02; 8:45 am]

BILLING CODE 4910-22-M